DEPARTMENT OF COMMERCE

International Trade Administration

[A-570-970]

Multilayered Wood Flooring From the People's Republic of China: Final Results of Antidumping Duty New Shipper Review; 2011-2012

AGENCY: Import Administration, International Trade Administration, Department of Commerce.

ACTION: Notice.

SUMMARY: On May 30, 2013, the Department of Commerce (“Department”) published the preliminary results of an antidumping duty new shipper review of multilayered wood flooring (“MLWF”) from the People's Republic of China (“PRC”).¹ We invited interested parties to comment on our preliminary results. Based on our analysis of the comments, we made changes to our margin calculations for this new shipper, Power Dekor Group Co., Ltd. (“Power Dekor”). We continue to find that Power Dekor did not make a sale of subject merchandise at less than normal value.

¹ See Multilayered Wood Flooring From the People's Republic of China; Preliminary Results of Antidumping Duty New Shipper Review; 2011-2012, 78 FR 32367 (May 30, 2013) (“Preliminary Results”).

DATES: Effective August 23, 2013.

FOR FURTHER INFORMATION CONTACT: Trisha Tran, AD/CVD Operations, Office 4, Import Administration, International Trade Administration, U.S. Department of Commerce, 14th Street and Constitution Avenue NW., Washington, DC 20230; telephone: (202) 482-4852.

SUPPLEMENTARY INFORMATION:

Case History

The Department published the Preliminary Results on May 30, 2013.² On July 1, 2013, The Coalition for American Hardwood Parity (“Petitioner”) submitted its case brief,³ and on July 8, 2013, Power Dekor submitted its rebuttal brief.⁴

² Also adopted as part of the Preliminary Results was the Memorandum to Paul Piquado entitled “Decision Memorandum for Preliminary Results of Antidumping Duty New Shipper Review: Multilayered Wood Flooring from the People's Republic of China,” dated May 23, 2013 (“Preliminary Decision Memorandum”).

³ See Letter from Petitioner entitled “Multilayered Wood Flooring from China: New Shipper Review,” dated July 1, 2013.

⁴ See Letter from Power Dekor Group entitled “New Shipper Review for Multilayered Wood Flooring from the People's Republic of China: Response to Petitioner's Comments,” dated July 8, 2013.

Period of Review

The period of review (“POR”) is May 26, 2011, through May 31, 2012. This POR corresponds to the period from the date of suspension of liquidation to the end of the month immediately preceding the first semiannual anniversary month pursuant to 19 CFR 351.214(g)(1)(ii)(B).

Scope of the Order

The merchandise covered by the order includes MLWF, subject to certain exceptions.⁵ The subject merchandise is currently classifiable under Harmonized Tariff Schedule of the United States (“HTSUS”) subheadings: 4412.31.0520; 4412.31.0540; 4412.31.0560; 4412.31.2510; 4412.31.2520; 4412.31.4040; 4412.31.4050; 4412.31.4060; 4412.31.4070; 4412.31.4075; 4412.31.4080; 4412.31.5125; 4412.31.5135; 4412.31.5155; 4412.31.5165; 4412.31.6000; 4412.31.9100; 4412.32.0520; 4412.32.0540; 4412.32.0560; 4412.32.0565; 4412.32.0570; 4412.32.2510; 4412.32.2520; 4412.32.2525; 4412.32.2530; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; and 4418.72.9500.

⁵ For a complete description of the Scope of the Order, see Memorandum to Ronald K. Lorentzen entitled “Issues and Decision Memorandum for the Final Results in the Antidumping Duty New Shipper Review of Multilayered Wood Flooring from the People's Republic of China,” dated August 16, 2013 (“Issues and Decision Memorandum”).

The HTSUS subheadings are provided for convenience and customs purposes only; the written product description of the scope of the order is dispositive.

Analysis of Comments Received

All issues raised in the case and rebuttal briefs by parties to this new shipper review are addressed in the Issues and Decision Memorandum, which is hereby adopted by this notice. A list of the issues which parties raised and to which we respond in the Issues and Decision Memorandum is attached to this notice as an Appendix. The Issues and Decision Memorandum is a public document and is on file electronically via Import Administration's Antidumping and Countervailing Duty Centralized Electronic Service System (IA ACCESS). Access to IA ACCESS is available to registered users at http://iaaccess.trade.gov and in the Central Records Unit, Room 7046 of the main Department of Commerce building. In addition, a complete version of the Issues and Decision Memorandum can be accessed directly on the Internet at http://www.trade.gov/ia/. The signed Issues and Decision Memorandum and the electronic versions of the Issues and Decision Memorandum are identical in content.

Changes Since the Preliminary Results

Based on a review of the record and comments received from interested parties regarding the Preliminary Results, we have made the following revisions to the margin calculations for Power Dekor:⁶

⁶ For detailed information concerning all of the changes made, including those listed above, see Memorandum from the Department entitled “New Shipper Review for Multilayered Wood Flooring from the People's Republic of China: Final Analysis Memo for Power Dekor Group Co., Ltd.,” dated concurrently with this memorandum.

• We revised overhead, SG&A, and profit margin to reflect the exclusion of Winlex Marketing Corporations' 2011 financial statements.

• We revised overhead, SG&A, and profit margin to reflect the exclusion of Davao Panels Enterprises' 2011 financial statements.

Final Results Margin

The Department finds that the following weighted-average dumping margin exists:

Exporter | Producer | Weighted-average dumping margin (percent)
Power Dekor Group Co., Ltd. | Guangzhou Homebon Timber Manufacturing Co., Ltd. | 0.00

Disclosure

We intend to disclose to parties the calculations performed in this proceeding within five days of the date of publication of this notice in accordance with 19 CFR 351.224(b).

Assessment

Upon issuance of the final results, the Department will determine, and U.S. Customs and Border Protection (“CBP”) shall assess, antidumping duties on all appropriate entries in accordance with 19 CFR 351.212(b). The Department intends to issue assessment instructions to CBP 15 days after the date of publication of the final results of review. Where either the respondent's weighted-average dumping margin is zero or de minimis, or an importer-specific assessment rate is zero or de minimis, we will instruct CBP to liquidate the appropriate entries without regard to antidumping duties. The Department recently announced a refinement to its assessment practice in non-market economy (“NME”) cases.⁷ Pursuant to this refinement in practice, for entries that were not reported in the U.S. sales databases submitted by the company individually examined during this review, the Department will instruct CBP to liquidate such entries at the NME-wide rate. In addition, if the Department determines that the exporter under review had no shipments of the subject merchandise, any suspended entries that entered under that exporter's case number (i.e., at that exporter's rate) will be liquidated at the NME-wide rate.⁸

⁷ See Non-Market Economy Antidumping Proceedings: Assessment of Antidumping Duties, 76 FR 65694 (October 24, 2011).

⁸ Id.

Cash Deposit Requirements

The following cash deposit requirements will be effective upon publication of the final results of this new shipper review for all shipments of the subject merchandise from Power Dekor entered, or withdrawn from warehouse, for consumption on or after the publication date, as provided for by section 751(a)(2)(C) of the Tariff Act of 1930, as amended (the “Act”): (1) For subject merchandise exported by Power Dekor and produced by Guangzhou Homebon Timber Manufacturing Co., Ltd., the cash deposit rate will be 0.00 percent and (2) for subject merchandise exported by Power Dekor but not produced by Guangzhou Homebon Timber Manufacturing Co., Ltd., the cash deposit rate will be the PRC-wide rate of 58.84 percent.

Notification to Importers

This notice also serves as a final reminder to importers of their responsibility under 19 CFR 351.402(f)(2) to file a certificate regarding the reimbursement of antidumping duties prior to liquidation of the relevant entries during this POR. Failure to comply with this requirement could result in the Secretary's presumption that reimbursement of the antidumping duties occurred and the subsequent assessment of double antidumping duties.

Notification Regarding APO

This notice also serves as a reminder to the parties subject to administrative protective order (“APO”) of their responsibility concerning the disposition of business proprietary information (“BPI”) disclosed under APO in accordance with 19 CFR 351.305(a)(3), which continues to govern BPI in this segment of the proceeding. Timely notification of return or destruction of APO materials or conversion to judicial protective order is hereby requested. Failure to comply with the regulations and terms of an APO is a sanctionable violation.

This determination is issued and published in accordance with sections 751(a)(2)(B) and 777(i) of the Act.

Dated: August 16, 2013.
Paul Piquado,
Assistant Secretary for Import Administration.

Appendix—Issue for Final Results

Issue: Selection of Surrogate Financial Statements.

[FR Doc. 2013-20648 Filed 8-22-13; 8:45 am]

BILLING CODE 3510-DS-P